DEPARTMENT OF TRANSPORTATION

Federal Aviation Administration

[Docket No. 2023-1859]

Agency Information Collection Activities: Requests for Comments; Clearance of a Renewed Approval of Information Collection: Safe Disposition of Life-Limited Aircraft Parts

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on March 14, 2024. The collection involves maintaining and recording “the status of life-limited parts of each airframe, engine, propeller, rotor, and appliance. The information to be collected is necessary for verifying the time-life of life-limited parts and is used to ensure parts that have reached their life-limit are not installed on an aircraft, or are removed from an aircraft and properly dispositioned.

DATES: Written comments should be submitted by June 12, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Randy.A.Shafer by email at: Randy.A.Shafer@faa.gov; phone: 217-971-8378.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0665.

Title: Safe Disposition of Life-Limited Aircraft Parts.

Form Numbers: N/A.

Type of Review: Renewal of an information collection.

Background: The Federal Register Notice with a 60-day comment period soliciting comments on the following collection of information was published on March 14, 2024 (89 FR 18700). The installation of parts that have exceeded their manufacturer specified life-limit onto aircraft operating in the National Airspace (NAS) compromises the safety of the public who fly on those aircraft. The FAA has found life-limited parts that exceeded their operating limitations installed on aircraft through accident investigations, Suspected Unapproved Parts (SUPS) reports, and routine surveillance activities. To help prevent the installation of aircraft parts that have reached their life-limit, the FAA has instituted regulations that require persons who remove parts that have reached their life limit, to properly disposition those parts. Proper disposition may include part recordkeeping, tagging, marking, segregation, mutilation, or another method approved or accepted by the FAA. Additionally, when requested by a person required to disposition a life-limited part, the holder of a type certificate or design approval for a life-limited part must provide marking instructions or must state that the part cannot be practicably marked without compromising its integrity.

Respondents: 22,000 aircraft maintenance providers and design approval holders.

Frequency: As needed.

Estimated Average Burden per Response: 30 minutes per response.

Estimated Total Annual Burden: 53,500 hours.

Issued in Washington, DC, on May 7, 2024.
Tanya A. Glines,
Aviation Safety Inspector, Office of Safety Standards, Aircraft Maintenance Division, Airmen Section.

[FR Doc. 2024-10316 Filed 5-10-24; 8:45 am]

BILLING CODE 4910-13-P